DEPARTMENT OF THE INTERIOR

Bureau of Land Management

[CACA-048811, LLCAD060000, L51010000.FX0000, LVRWB09B2600]

Notice of Availability of the Record of Decision for the Blythe Solar Power Project and Associated Amendment to the California Desert Conservation Area Resource Management Plan, Riverside County, California

AGENCY: Bureau of Land Management, Interior.

ACTION: Notice of availability.

SUMMARY: The Bureau of Land Management (BLM) announces the availability of the Record of Decision (ROD)/Approved Amendment to the California Desert Conservation Area (CDCA) Plan (the applicable Resource Management Plan (RMP) for the project site and the surrounding areas) located in the California Desert District. The Secretary of the Interior signed the ROD on October 22, 2010, which constitutes the final decision of the Department.

DATES: The ROD/Approved Plan Amendment are effective immediately upon publication of this notice.

ADDRESSES: Copies of the ROD/Approved Amendment to the CDCA Plan are available upon request from the Field Manager, Palm Springs-South Coast Field Office, Bureau of Land Management, 1201 Bird Center Drive, Palm Springs, California 92262 or via the internet at the following Web site: http://www.blm.gov/ca/st/en/fo/palmsprings.html.

FOR FURTHER INFORMATION CONTACT: Allison Shaffer, BLM Project Manager; telephone: (760) 833-7100; mailing address: Bird Center Drive, Palm Springs, California 92262; or e-mail: capssolarblythe@blm.gov.

SUPPLEMENTARY INFORMATION: Chevron Energy Solutions filed right-of-way (ROW) application CACA-048811 for the proposed Blythe Solar Power Project (BSPP). Chevron Energy Solutions entered into a development agreement with Solar Millennium and requested that the project be assigned to Palo Verde Solar I, LLC, a wholly owned subsidiary of Solar Millennium. The BSPP is a concentrated solar electrical generating facility using parabolic trough technology and facilities. The BSPP site is proposed on approximately 7,025 acres of BLM-managed lands in Riverside County, California, approximately 8 miles west of Blythe, California, 3 miles north of Highway I-10, and 1 mile north of the Blythe Regional Airport. In addition to the BSPP site, the project includes a distribution line, an electrical transmission line, fiber optic lines, a natural gas pipeline, and an access road. The double circuit 230-kilovolt (kV) transmission line will be constructed to interconnect to the Devers-Palo Verde II 500-kV transmission line at the Colorado River substation. The linear facilities will encumber approximately 43 acres onsite and 183 acres offsite.

The project site is in the California Desert District within the planning boundary of the CDCA Plan, which is the applicable RMP for the project site and the surrounding areas. The CDCA Plan, while recognizing the potential compatibility of solar generation facilities on public lands, requires that all sites associated with power generation or transmission not already identified in that Plan be considered through the BLM's land use plan amendment process. As a result, prior to approval of a ROW grant for the BSPP, the BLM must amend the CDCA Plan to allow the solar generating project on the site. The Approved Amendment to the CDCA Plan specifically revises the CDCA Plan to allow for the development of the BSPP project on the 7,025 acres of land managed by the BLM with other ancillary structures and facilities.

The BLM preferred alternative would result in the building of 4 adjacent and independent power block units, capable of generating an approximate nominal capacity of 1000 megawatts (MW) of electricity, as well as all associated ancillary facilities. The 1000-MW alternative was evaluated in the Final Environmental Impact Statement (EIS). The Notice of Availability of the Final EIS for the BSPP and the proposed CDCA Plan amendment was published in the Federal Register on August 20, 2010 (75 FR 51480).

Publication of the Notice of Availability for the Final EIS initiated a 30-day protest period for the proposed amendment to the CDCA Plan and a 30-day public comment period for the Final EIS. At the close of the 30-day period on September 20, 2010, 4 timely and complete written protests and 16 comment letters were received. The BLM's responses to the comments are provided in Appendix 1 to this ROD. The proposed amendment to the CDCA Plan was not modified as a result of the protest resolution. Simultaneous to the protest period, the Governor of California conducted a 30-day consistency review of the proposed CDCA Plan amendment/Final EIS to identify any inconsistencies with the state or local plan, policies, or programs. The California Governor's office did not identify inconsistencies between the proposed amendment to the CDCA Plan/Final EIS and state or local plan, policies, or programs.

Because this decision is approved by the Secretary of the Interior, it is not subject to administrative appeal (43 CFR 4.410(a)(3)).

Authority: 40 CFR 1506.6.

Robert V. Abbey,
Director, Bureau of Land Management.

[FR Doc. 2010-27285 Filed 10-27-10; 8:45 am]

BILLING CODE 4310-40-P